DEPARTMENT OF HOMELAND SECURITY

Coast Guard

33 CFR Part 117

[Docket No. USCG-2013-0308]

Drawbridge Operation Regulation; Tuckahoe River, Between Corbin City and Upper Township, NJ

AGENCY: Coast Guard, DHS.

ACTION: Notice of deviation from drawbridge regulation.

SUMMARY: The Coast Guard has issued a temporary deviation from the operating schedule that governs the draw of the State Highway Bridge across the Tuckahoe River, mile 8.0, between Corbin City and Upper Township, NJ. The deviation is necessary to facilitate mechanical repair work for excessive corrosion within working assemblies on the State Highway Bridge. This deviation allows the drawbridge to remain in the closed to navigation position during the deviation period.

DATES: This deviation is effective from May 14, 2013 to 7 a.m. on October 24, 2013.

ADDRESSES: The docket for this deviation, [USCG-2013-0308] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone 757-398-6557, email James.L.Rousseau2@uscg.mil. If you have questions on viewing the docket, call Barbara Hairston, Program Manager, Docket Operations, 202-366-9826.

SUPPLEMENTARY INFORMATION: The New Jersey Department of Transportation, who owns and operates this swing bridge, has requested a temporary deviation from the current operating regulations set out in 33 CFR 117.758, to facilitate emergency repair work on the structure.

Under the regular operating schedule, the State Highway Bridge, mile 8.0, between Corbin City and Upper Township, NJ shall open on signal if at least 24 hours notice is given. The State Highway Bridge has vertical clearance in the closed position of 8 feet above mean high water.

Under this temporary deviation, the drawbridge will be closed to navigation from May 14, 2013 to 7 a.m. on Thursday October 24, 2013. Emergency openings cannot be provided. There are no alternate routes for vessels transiting this section of the Tuckahoe River.

The Tuckahoe River in this area is used by small recreational vessels. There have been no documented navigational requests for openings in 28 years. The Coast Guard will inform users of the waterway through our Local and Broadcast Notice to Mariners of the closure periods for the bridge so that vessels can arrange their transits to minimize any impacts caused by the temporary deviation. Mariners able to pass under the bridge in the closed position may do so at any time. Mariners are advised to proceed with caution.

In accordance with 33 CFR 117.35(e), the drawbridge must return to its regular operating schedule immediately at the end of the effective period of this temporary deviation. This deviation from the operating regulations is authorized under 33 CFR 117.35.

Dated: May 1, 2013.
Waverly W. Gregory, Jr.,
Bridge Program Manager, Fifth Coast Guard District.

[FR Doc. 2013-11365 Filed 5-13-13; 8:45 am]

BILLING CODE 9110-04-P